COMMISSION ON CIVIL RIGHTS

Sunshine Act Meeting Notice

AGENCY: United States Commission on Civil Rights.

ACTION: Notice of Commission Briefing and Business Meeting.

DATES: Monday, November 13, 2017, at 1:00 p.m. EST.

ADDRESSES: National Place Building, 1331 Pennsylvania Ave. NW., Suite 1150, Washington, DC 20245 (Entrance on F Street NW.).

FOR FURTHER INFORMATION CONTACT: Brian Walch; (202) 376-8371; TTY: (202) 376-8116; email: publicaffairs@usccr.gov.

SUPPLEMENTARY INFORMATION: This business meeting is open to the public. There will also be a call-in line for individuals who desire to listen to the presentations: (888) 339-3513; Conference ID 360-3740.

Persons with disabilities who need accommodation should contact Pamela Dunston at (202) 376-8105, or access@usccr.gov at least three business days before the date of the meeting.

Meeting Agenda

I. Approval of Agenda

II. Business Meeting

A. State Advisory Committees

a. Discussion and Vote on Nomination of Shaakirrah Sanders as Chair of the Idaho Advisory Committee

b. Discussion and Vote on Nomination of Curtiss Reed, Jr. as Chair of the Vermont Advisory Committee

c. Discussion and Vote on Nomination of Alexes Harris as Chair of the Washington Advisory Committee

B. Management and Operations

• Staff Director's Report

III. Adjourn Meeting

Dated: November 6, 2017.
Brian Walch,
Director, Communications and Public Engagement.

[FR Doc. 2017-24391 Filed 11-6-17; 11:15 am]

BILLING CODE 6335-01-P